DEPARTMENT OF COMMERCE

[Docket No.: 150619535-5738-02]

Privacy Act of 1974, New System of Records

AGENCY: U.S. Department of Commerce, National Institute of Standards and Technology.

ACTION: Notice of Privacy Act System of Records: “COMMERCE/NIST-8, Child Care Subsidy Program Records.”

SUMMARY: The Department of Commerce publishes this notice to announce the effective date of a new Privacy Act System of Records notice entitled COMMERCE/NIST-8, Child Care Subsidy Program Records.

DATES: The system of records becomes effective on August 25, 2015.

ADDRESSES: For a copy of the system of records please mail requests to: Essex W. Brown, National Institute of Standards and Technology, 100 Bureau Drive, Gaithersburg, MD 20899, Building 101, Room A224, (301) 975-3801.

FOR FURTHER INFORMATION CONTACT: Kaitlyn Kemp, National Institute of Standards and Technology, 100 Bureau Drive, Gaithersburg, MD 20899, Building 101, Room A123, (301) 975-3319.

SUPPLEMENTARY INFORMATION: On July 14, 2015 (80 FR 40995), the Department of Commerce published a notice in the Federal Register requesting comments on a proposed new Privacy Act System of Records notice entitled COMMERCE/NIST-8, Child Care Subsidy Program Records. No comments were received in response to the request for comments. By this notice, the Department of Commerce is adopting the proposed new system as final without changes effective August 25, 2015.

Dated: August 19, 2015.
Michael J. Toland,
Department of Commerce, Acting Freedom of Information and Privacy Act Officer.

[FR Doc. 2015-20972 Filed 8-24-15; 8:45 am]

BILLING CODE 3510-13-P